DEPARTMENT OF HEALTH AND HUMAN SERVICES

Agency for Healthcare Research and Quality

Request for Comments on Pediatric Planned Procedure Algorithm

AGENCY: Agency for Healthcare Research and Quality (AHRQ), HHS.

ACTION: Notice of request for comments on pediatric planned procedure algorithm from the members of the public.

SUMMARY: Section 401(a) of the Children's Health Insurance Program Reauthorization Act of 2009 (CHIPRA), Public Law 111-3, amended the Social Security Act (the Act) to enact section 1139A (42 U.S.C. 1320b-9a). Section 1139A(b) charged the Department of Health and Human Services with improving pediatric health care quality measures. This effort includes development of several new pediatric quality measures, including a pediatric readmission measure. The Agency for Healthcare Research and Quality (AHRQ) is requesting comments from the public on an algorithm for identifying pediatric planned procedures as part of the readmission measure. The purpose of the algorithm is to identify, using International Classification of Diseases, Ninth Revision, Clinical Modification (ICD-9-CM) procedure codes, pediatric procedures that are usually planned so that admissions for these procedures can be excluded from calculations of readmission rates.

To identify planned procedures, expert pediatric clinicians in 14 different procedure-oriented specialties reviewed procedures typically performed by their specialty. The reviewers indicated which procedures (1) are usually planned (defined as planned in more than 80% of cases) and (2) could require hospitalization. Admissions for which the primary procedure coded was one of these procedures are excluded from the count of readmissions.

The list of ICD-9-CM codes and code descriptions for the planned procedures is available at: http://www.ahrq.gov/policymakers/chipra/pedprocedurecodes.html.

DATES: Please submit comments October 21, 2013. AHRQ will not respond to individual comments, but will consider all comments.

ADDRESSES: Electronic submissions are encouraged, preferably as an email with an electronic file in a standard word processing format as an email attachment. Submissions may also be in the form of a letter to: Maushami (Mia) DeSoto, MSc, Ph.D., MHA, Office of Extramural Research, Education and Priority Populations, Agency for Healthcare Research and Quality, 540 Gaither Rd., Rockville, MD 20850, Phone: (301) 427-1546, Fax: (301) 427-1238, Email: Maushami.Desoto@AHRQ.hhs.gov.

Submission Guidelines:When submitting comments, please include, to the extent available:

—Detailed responses and suggestions; and

—Rationale and evidence for any recommended changes to the algorithm, including citations of published evidence, if available.

For all submissions, please also include:

A brief cover letter summarizing the information requested above for submitted comments;

Complete information about the person submitting the comments, including:

(a) Name; and

(b) Email address.

FOR FURTHER INFORMATION CONTACT: Maushami (Mia) DeSoto, MSc, Ph.D., MHA

SUPPLEMENTARY INFORMATION: Section 401(a) of the Children's Health Insurance Program Reauthorization Act of 2009 (CHIPRA), Public Law 111-3, amended the Social Security Act (the Act) to enact section 1139A (42 U.S.C. 1320b-9a). Since the law was passed, the Agency for Healthcare Research and Quality (AHRQ) and the Centers for Medicare & Medicaid Services (CMS) have been working together to implement selected provisions of the legislation related to children's health care quality. Section 1139A(b) of the Act charged the Department of Health and Human Services with improving pediatric health care quality measures. To implement the law, AHRQ and CMS have established the CHIPRA Pediatric Quality Measures Program (PQMP), which is designed to enhance select pediatric quality measures and develop new measures as needed.

The information sought in this Notice is being collected pursuant to the needs of the Children's Hospital Boston Center of Excellence for Pediatric Quality Measurement (CEPQM). It is one of the seven CHIPRA Pediatric Quality Measures Program (PQMP) Centers of Excellence and has been assigned the task of developing a pediatric readmission measure.

Dated: September 12, 2013.
Richard Kronick,
AHRQ Director.

[FR Doc. 2013-22796 Filed 9-18-13; 8:45 am]

BILLING CODE 4160-90-P